DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
Madison (FEMA Docket No.: B-2130). | City of Madison (21-04-0412P) | The Honorable Paul Finley, Mayor, City of Madison, 100 Hughes Road, Madison, AL 35758. | Engineering Department, 100 Hughes Road, Madison, AL 35758. | Apr. 15, 2021 | 010308
Madison (FEMA Docket No.: B-2130). | Unincorporated areas of Madison County (21-04-0412P). | The Honorable Dale W. Strong, Chairman, Madison County Commission, 100 North Side Square, Huntsville, AL 35801. | Madison County Public Works Department, 266-C Shields Road, Huntsville, AL 35811. | Apr. 15, 2021 | 010151
Colorado:
Boulder (FEMA Docket No.: B-2106). | City of Boulder (20-08-0969P). | The Honorable Sam Weaver, Mayor, City of Boulder, 1777 Broadway Street, Boulder, CO 80302. | Planning and Development Services Department, 1739 Broadway Street, Boulder, CO 80302. | Apr. 19, 2021 | 080024
Boulder (FEMA Docket No.: B-2106). | Unincorporated areas of Boulder County (20-08-0969P). | The Honorable Deb Gardner, Chair, Boulder County Board of Commissioners, P.O. Box 471, Boulder, CO 80306. | Boulder County Community Planning and Permitting Department, 2045 13th Street, Boulder, CO 80302. | Apr. 19, 2021 | 080023
Delaware: New Castle (FEMA Docket No.: B-2106). | Unincorporated areas of New Castle County (20-03-1274P). | The Honorable Matthew Meyer, New Castle County Executive, 87 Read's Way, New Castle, DE 19720. | New Castle County Land Use Department, 87 Read's Way, New Castle, DE 19720. | Apr. 15, 2021 | 105085
Florida:
Lee (FEMA Docket No.: B-2106). | City of Bonita Springs (20-04-5188P). | The Honorable Rick Steinmeyer, Mayor, City of Bonita Springs, 9101 Bonita Beach Road, Bonita Springs, FL 34135. | Community Development Department, 9220 Bonita Beach Road, Bonita Springs, FL 34135. | Apr. 14, 2021 | 120680
Lee (FEMA Docket No.: B-2106). | City of Sanibel (20-04-5855P). | The Honorable Mick Denham, Acting Mayor, City of Sanibel, 800 Dunlop Road, Sanibel, FL 33957. | Community Services Department, 800 Dunlop Road, Sanibel, FL 33957. | Apr. 19, 2021 | 120402
Monroe (FEMA Docket No.: B-2106). | City of Marathon (20-04-5597P). | The Honorable Steve Cook, Mayor, City of Marathon, 9805 Overseas Highway, Marathon, FL 33050. | Planning Department, 9805 Overseas Highway, Marathon, FL 33050. | Apr. 5, 2021 | 120681
Monroe (FEMA Docket No.: B-2100). | City of Marathon (21-04-0493P). | The Honorable Steve Cook, Mayor, City of Marathon, 9805 Overseas Highway, Marathon, FL 33050. | Planning Department, 9805 Overseas Highway, Marathon, FL 33050. | Apr. 12, 2021 | 120681
Palm Beach (FEMA Docket No.: B-2106). | City of Westlake (20-04-3348P). | The Honorable Roger Manning, Mayor, City of Westlake, 4001 Seminole Pratt Whitney Road, Westlake, FL 33470. | City Hall, 4001 Seminole Pratt Whitney Road, Westlake, FL 33470. | Apr. 19, 2021 | 120018
Pinellas (FEMA Docket No.: B-2100). | Town of Belleair (20-04-5570P). | Mr. J.P. Murphy, Manager, Town of Belleair, 901 Ponce de Leon Boulevard, Belleair, FL 33756. | Building Department, 901 Ponce de Leon Boulevard, Belleair, FL 33756. | Apr. 12, 2021 | 125088
Polk (FEMA Docket No.: B-2106). | Unincorporated areas of Polk County (20-04-0306P). | The Honorable Bill Braswell, Chairman, Polk County Board of Commissioners, P.O. Box 9005, Bartow, FL 33831. | Polk County Land Development Division, 330 West Church Street, Bartow, FL 33830. | Apr. 15, 2021 | 120261
Maine: York (FEMA Docket No.: B-2106). | Town of Kennebunkport (20-01-0791P). | The Honorable Allen A. Daggett, Chairman, Town of Kennebunkport Board of Selectmen, 6 Elm Street, Kennebunkport, ME 04046. | Planning and Development Department, 6 Elm Street, Kennebunkport, ME 04046. | Apr. 19, 2021 | 230170
Maryland: Calvert (FEMA Docket No.: B-2106). | Unincorporated areas of Calvert County (21-03-0019P). | Mr. Mark Willis, Calvert County Administrator, 175 Main Street, Prince Frederick, MD 20678. | Calvert County Services Department, 150 Main Street, Suite 300, Prince Frederick, MD 20678. | Apr. 19, 2021 | 240011
New Mexico:
Taos (FEMA Docket No.: B-2100). | Town of Taos (20-06-1193P). | The Honorable Daniel R. Barrone, Mayor, Town of Taos, 400 Camino De La Placita, Taos, NM 87571. | Planning Department, 400 Camino De La Placita, Taos, NM 87571. | Apr. 9, 2021 | 350080
Taos (FEMA Docket No.: B-2100). | Unincorporated areas of Taos County (20-06-1193P). | Mr. Brent Jaramillo, Taos County Manager, 105 Albright Street, Suite G, Taos, NM 87571. | Taos County Planning Department, 105 Albright Street, Taos, NM 87571. | Apr. 9, 2021 | 350078
Taos (FEMA Docket No.: B-2106). | Unincorporated areas of Taos County (20-06-2426P). | Mr. Brent Jaramillo, Taos County Manager, 105 Albright Street, Suite G, Taos, NM 87571. | Taos County Planning Department, 105 Albright Street, Taos, NM 87571. | Apr. 16, 2021 | 350078
North Carolina:
Chatham (FEMA Docket No.: B-2106). | Town of Siler City (20-04-3577P). | Mr. Roy Lynch, Manager, Town of Siler City, P.O. Box 769, Siler City, NC 27344. | Public Works and Utilities Department, 311 North 2nd Avenue, Siler City, NC 27344. | Apr. 16, 2021 | 370058
Chatham (FEMA Docket No.: B-2117). | Unincorporated areas of Chatham County (20-04-3030P). | The Honorable Mike Dasher, Chairman, Chatham County Board of Commissioners, 2 East Street, Pittsboro, NC 28202. | Chatham County Planning Department 80-A East Street Pittsboro, NC 27312. | Apr. 23, 2021 | 370299
Mecklenburg (FEMA Docket No.: B-2117). | City of Charlotte (20-04-3344P). | The Honorable Vi Alexander Lyles, Mayor, City of Charlotte, 600 East 4th Street, Charlotte, NC 28202. | Mecklenburg County Stormwater services Department, 2145 Suttle Avenue, Charlotte, NC 28202. | Apr. 7, 2021 | 370159
Pennsylvania:
Chester (FEMA Docket No.: B-2106). | Township of East Marlborough (20-03-1170P). | The Honorable Robert McKinstry, Chairman, Township of East Marlborough Board of Supervisors, 721 Unionville Road, Kennett Square, PA 19348. | Township Hall, 721 Unionville Road, Kennett Square, PA 19348. | Apr. 19, 2021 | 421480
Lackawanna (FEMA Docket No.: B-2106). | Township of Clifton (20-03-1819P). | The Honorable Theodore Stout, Chairman, Township of Clifton Board of Supervisors, 361 State Road 435, Clifton Township, PA 18424. | Township Hall, 361 State Road 435, Clifton Township, PA 18424. | Apr. 6, 2021 | 421751
Texas:
Anderson (FEMA Docket No.: B-2106). | Unincorporated areas of Anderson County (20-06-1140P). | The Honorable Robert D. Johnston, Anderson County Judge, 703 North Mallard Street, Suite 101, Palestine, TX 75801. | Anderson County Geographic Information Systems (GIS) Department, 703 North Mallard Street, Suite 109, Palestine, TX 75801. | Apr. 19, 2021 | 480001
Bexar (FEMA Docket No.: B-2109). | City of San Antonio (20-06-1886P). | The Honorable Ron Nirenberg, Mayor, City of San Antonio, P.O. Box 839966, San Antonio, TX 78283. | Transportation and Capitol Improvements Department, Storm Water Division, 114 West Commerce Street, 7th Floor, San Antonio, TX 78205. | Apr. 12, 2021 | 480045
Dallas (FEMA Docket No.: B-2106). | City of Dallas (20-06-2850P). | The Honorable Eric Johnson, Mayor, City of Dallas, 1500 Marilla Street, Suite 5EN, Dallas, TX 75201. | Floodplain and Drainage Management Department, 320 East Jefferson Boulevard, Room 307, Dallas, TX 75203. | Apr. 19, 2021 | 480171
Denton (FEMA Docket No.: B-2106). | City of Justin (20-06-3405P). | The Honorable Alan Woodall, Mayor, City of Justin, P.O. Box 129, Justin, TX 76247. | Department of Development Services, 415 North College Street, Justin, TX 76247. | Apr. 23, 2021 | 480778
Denton (FEMA Docket No.: B-2106). | City of New Fairview (20-06-2141P). | Mr. Ben Nibarger, City of New Fairview Administrator, 999 Illinois Lane, New Fairview, TX 76078. | Geographic Information Systems (GIS) Department, 999 Illinois Lane, New Fairview, TX 76078. | Apr. 15, 2021 | 481629
Denton (FEMA Docket No.: B-2106). | Unincorporated areas of Denton County (20-06-2141P). | The Honorable Andy Eads, Denton County Judge, 110 West Hickory Street, 2nd Floor, Denton, TX 76201. | Denton County Development Services Department, 3900 Morse Street, Denton, TX 76208. | Apr. 15, 2021 | 480774
Tarrant (FEMA Docket No.: B-2106). | City of Arlington (20-06-2037P). | The Honorable Jeff Williams, Mayor, City of Arlington, 101 West Abram Street, Arlington, TX 76010. | City Hall, 101 West Abram Street, Arlington, TX 76010. | Apr. 19, 2021 | 485454
Webb (FEMA Docket No.: B-2109). | Unincorporated areas of Webb County (20-06-2119P). | The Honorable Tano E. Tijerina, Webb County Judge, 1000 Houston Street, 3rd Floor, Laredo, TX 78040. | Webb County Planning Department, 1110 Washington Street, Suite 302, Laredo, TX 78040. | Apr. 19, 2021 | 481059
Williamson (FEMA Docket No.: B-2100). | Unincorporated areas of Williamson County (20-06-2228P). | The Honorable Bill Gravell, Jr., Williamson County Judge, 710 South Main Street, Suite 101, Georgetown, TX 78626. | Williamson County Engineering Department, 3151 Southeast Inner Loop, Georgetown, TX 78626. | Apr. 12, 2021 | 481079
Vermont: Windsor (FEMA Docket No.: B-2100). | Town of Springfield (20-01-0533P). | Mr. Steve Neratko, Town of Springfield Manager, 96 Main Street, Springfield, VT 05156. | Town Hall, 96 Main Street, Springfield, VT 05156. | Apr. 14, 2021 | 500154
Virginia:
Independent City (FEMA Docket No.: B-2106). | City of Staunton (20-03-1605P). | Mr. Steven Rosenberg, City of Staunton Manager, 116 West Beverley Street, Staunton, VA 24401. | Community Development Department, 116 West Beverley Street, Staunton, VA 24401. | Mar. 30, 2021 | 510155
Loudoun (FEMA Docket No.: B-2100). | Unincorporated areas of Loudoun County (20-03-0990P). | Mr. Tim Hemstreet, Loudoun County Administrator, P.O. Box 7000, Leesburg, VA 20177. | Loudoun County Office of Mapping and Geographic Information, 1 Harrison Street Southeast, Leesburg, VA 20175. | Mar. 29, 2021 | 510090
Washington D.C. (FEMA Docket No.: B-2100). | District of Columbia (20-03-1674P). | The Honorable Muriel Bowser, Mayor, District of Columbia, 1350 Pennsylvania Avenue Northwest, Washington, DC 20004. | Department of Energy and Environment, 1200 1st Street Northeast, Suite 500, Washington, DC 20002. | Apr. 19, 2021 | 110001
West Virginia:
Greenbrier (FEMA Docket No.: B-2100). | City of White Sulphur Springs (20-03-1111P). | The Honorable Bruce Bowling, Mayor, City of White Sulphur Springs, 589 Main Street West, White Sulphur Springs, WV 24986. | City Hall, 589 Main Street West, White Sulphur Springs, WV 24986. | Apr. 12, 2021 | 540045
Greenbrier (FEMA Docket No.: B-2100). | Unincorporated areas of Greenbrier County (20-03-1111P). | The Honorable Lowell Rose, President, Greenbrier County Commission, 912 Court Street North, Lewisburg, WV 24901. | Greenbrier County Planning Department, 912 Court Street North, Lewisburg, WV 24986. | Apr. 12, 2021 | 540040

[FR Doc. 2021-09627 Filed 5-6-21; 8:45 am]

BILLING CODE 9110-12-P